DEPARTMENT OF TRANSPORTATION

Office of the Secretary

Notice of Applications for Certificates of Public Convenience and Necessity and Foreign Air Carrier Permits Filed Under Subpart B (Formerly Subpart Q) During the Week Ending December 26, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0007.

Date Filed: December 22, 2009.

Due Date for Answers, Conforming Applications, or Motion to Modify Scope: January 12, 2010.

Description: Application of Baltia Air Lines, Inc. (Baltia), requesting that its experimental certificate of public convenience and necessity for foreign air transportation, Route 890 be extended for eight-month and that Baltia be reissued one round trip weekly frequency between New York and St. Petersburg, Russia.

Barbara J. Hairston,
Supervisory Dockets Officer, Docket Operations, Alternate Federal Register Liaison.

[FR Doc. 2010-127 Filed 1-7-10; 8:45 am]

BILLING CODE 4910-9X-P